DEPARTMENT OF LABOR

Employment and Training Administration

Filing Locations for Foreign Labor Certification Program Temporary Program Applications; Change of Address

AGENCY: Employment and Training Administration, Department of Labor.

ACTION: Notice.

SUMMARY: This Notice announces a change in the location where applications for temporary labor certification programs will be filed and/or are being processed.

DATES: This notice is effective on December 15, 2009.

FOR FURTHER INFORMATION CONTACT: William L. Carlson, Ph.D., Administrator, Office of Foreign Labor Certification, U.S. Department of Labor, 200 Constitution Avenue, NW., Room C-4312, Washington, DC 20210; telephone: (202) 693-3010 (this is not a toll-free number).

SUPPLEMENTARY INFORMATION:

I. Background

The Office of Foreign Labor Certification (OFLC) provides national leadership and policy guidance, and develops regulations and procedures to carry out the responsibilities of the Secretary of Labor under the Immigration and Nationality Act (INA) concerning foreign workers seeking admission to the United States (U.S.) in order to work under the labor certification programs authorized by the INA. In carrying out its statutory responsibility, OFLC administers both temporary nonimmigrant labor certification programs and the permanent immigrant labor certification program. The Secretary of Labor issues certifications in connection with several nonimmigrant visa programs as well as the permanent program. To obtain a labor certification under most labor certification programs administered by OFLC, employers must demonstrate that there are insufficient U.S. workers available, willing, and qualified to perform the work, and that the wage offered to the foreign worker(s) will not adversely impact U.S. workers similarly employed. The purpose of the labor certification process is to ensure that admitting foreign workers does not adversely affect job opportunities, wages and working conditions of U.S. workers. These activities are carried out in two National Processing Centers (NPC), one in Atlanta, GA and one in Chicago, IL.

The Chicago NPC is responsible for adjudicating all employer applications for temporary labor certification under the H-1B, H-1B1, E-3, H-2A, H-2B, H-1C, and D-1 programs. The purpose of this Notice is to inform the public about a change of address for the Chicago NPC.

The address change will be effective as of the effective date of this Notice. On that date, the Chicago NPC should be fully functional in the new location. For 3 weeks after that date, the Chicago NPC will receive via courier all written correspondence submitted to their former address. This is to ensure a smooth transition and allow all interested parties to commence using the new address. On January 6, 2010, the courier will cease to operate and all submissions to the former address of the Chicago NPC will be returned to the sender.

II. Address

Old Address: U.S. Department of Labor, Employment and Training Administration, Office of Foreign Labor Certification, Chicago National Processing Center, 844 North Rush Street, 12th Floor, Chicago, IL 60611; telephone: (312) 886-8000; facsimile: (312) 353-3352.

New Address: U.S. Department of Labor, Employment and Training Administration, Office of Foreign Labor Certification, Chicago National Processing Center, 536 South Clark Street, Chicago, IL 60605-1509; telephone: (312) 886-8000; facsimile: (312) 353-3352.

New Address in connection with fees: The following address is to be used for all invoices/fees submitted in connection with the H-2A and H-1C programs: U.S. Department of Labor, Employment and Training Administration, Office of Foreign Labor Certification, Chicago National Processing Center, P.O. Box A3804, Chicago, IL 60690-A3804.

Signed in Washington, DC, this 25th day of November 2009.
Jane Oates,
Assistant Secretary, Employment and Training Administration.

[FR Doc. E9-28954 Filed 12-3-09; 8:45 am]

BILLING CODE 4510-FP-P